DEPARTMENT OF THE TREASURY

Submission for OMB Review; Comment Request

February 17, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before March 25, 2010 to be assured of consideration.

Internal Revenue Service (IRS)

OMB Number: 1545-1551.

Type of Review: Revision of a currently approved collection.

Title: RP 97-36, RP 97-38, RP 97-39, RP 2002-9, and RP 2008-52, RP 2009-XX; Changes in Methods of Accounting.

Description: The information collected in the four revenue procedures is required in order for the Commissioner to determine whether the taxpayer properly is requesting to change its method of accounting and the terms and conditions of the change.

Respondents: Businesses or other for-profits, farms.

Estimated total burden hours: 24,937 hours.

OMB Number: 1545-0790.

Type of Review: Extension of a currently approved collection.

Title: Notice of Inconsistent Treatment or Administrative Adjustment Request (AAR).

Form: 8082.

Description: IRC sections 6222 and 6227 require partners to notify IRS by filing Form 8082 when they (1) treat partnership items inconsistent with the partnership's treatment (6222), and (2) change previously reported partnership items (6227). Sections 6244 and 860F extend this requirement to shareholders of S corporations and residuals of REMICs. Also, sections 6241 and 6034A(c) extend this requirement to partners in electing large partnerships and beneficiaries of estates and trusts.

Respondents: Businesses or other for-profits.

Estimated total burden hours: 51,024 hours.

OMB Number: 1545-1855.

Type of Review: Extension of a currently approved collection.

Title: REG-141402-02 Limitation on Use of the Nonaccrual-Experience Method of Accounting under Section 448(d)(5).

Description: The regulations provide four safe harbor nonaccrual-experience methods that will be presumed to clearly reflect a taxpayer's nonaccrual experience, and for taxpayers who wish to compute their nonaccrual experience using a computation or formula other than the one of the four safe harbors provided, the requirements that must be met in order to use an alternative computation or formula to compute their nonaccrual experience.

Respondents: Businesses or other for-profits.

Estimated total burden hours: 24,000 hours.

OMB Number: 1545-1558.

Type of Review: Extension of a currently approved collection.

Title: Revenue Procedure 97-43, Procedures for Electing Out of Exemptions Under Section 1.475(c)-1; and Revenue Ruling 97-39, Mark-to-Market Accounting Method for Dealers in Securities.

Description: Revenue Procedure 97-43 provides taxpayers automatic consent to change to mark-to-market accounting for securities after the taxpayer elects under section 1.475(c)-1, subject to specified terms and conditions. Revenue Ruling 97-39 provides taxpayers additional mark-to-market guidance in a question and answer format.

Respondents: Businesses or other for-profits.

Estimated total burden hours: 1,000 hours.

OMB Number: 1545-1145.

Type of Review: Extension of a currently approved collection.

Title: Generation-Skipping Transfer Tax Return for Terminations.

Form: 706-GS (T).

Description: Form 706-GS (T) is used by trustees to compute and report the Federal GST tax imposed by IRC section 2601. IRS uses the information to enforce this tax and to verify that the tax has been properly computed.

Respondents: Individuals and households.

Estimated total burden hours: 684 hours.

OMB Number: 1545-0951.

Type of Review: Extension of a currently approved collection.

Title: FORM 5434, Application for Enrollment; and Form 5434-A, Application for Renewal of Enrollment.

Form: 5434, 5434-A.

Description: The information relates to the granting of enrollment status to actuaries admitted (licensed) by the Joint Board for the Enrollment of Actuaries to perform actuarial services under the Employee Retirement Income Security Act of 1974.

Respondents: Individuals or households.

Estimated total burden hours: 3,800 hours.

OMB Number: 1545-1849.

Type of Review: Extension of a currently approved collection.

Title: Employer/Payer Information.

Form: 13460.

Description: Form 13460 is used to assist filer's who have under-reporter or correction issues. Also, this form expedites research of filer's problems.

Respondents: Businesses or other for-profits.

Estimated total burden hours: 50 hours.

OMB Number: 1545-1143.

Type of Review: Extension of a currently approved collection.

Title: Notification of Distribution from a Generation-Skipping Trust.

Form: 706-GS (D-1).

Description: Form 706-GS (D-1) is used by trustees to notify the IRS and distributees of information needed by distributees to compute the Federal GST tax imposed by IRC section 2601. IRS uses the information to enforce this tax and to verify that the tax has been properly computed.

Respondents: Individuals or households.

Estimated total burden hours: 348,800 hours.

OMB Number: 1545-1858.

Type of Review: Extension of a currently approved collection.

Title: Notice 2003-67, Notice on Information Reporting for Payments in Lieu of Dividends

Description: This notice provides guidance to brokers and individuals regarding provisions in the Jobs and Growth Tax Relief Reconciliation Act of 2003. The notice provides rules for brokers to use in determining loanable shares and rules for allocating transferred shares for purposes of determining payments in lieu of dividend reportable to individuals. These rules require brokers to comply with certain recordkeeping requirements to use the favorable rules for determining loanable shares and for allocating transferred shares that may give rise to payments in lieu of dividends.

Respondents: Businesses or other for-profits.

Estimated total burden hours: 60,000 hours.

OMB Number: 1545-2024.

Type of Review: Extension of a currently approved collection.

Title: Limited Pay-ability Claim against the United States For Proceeds of the Internal Revenue Refund Check.

Form: 13818.

Description: This form is used by taxpayers for completing a claim against the United States for the proceeds of an Internal Revenue refund check.

Respondents: Individuals or households.

Estimated total burden hours: 4,000 hours.

OMB Number: 1545-1694.

Type of Review: Extension of a currently approved collection.

Title: Revenue Ruling 2000-35 Automatic Enrollment in Section 403(b) Plans

Description: Revenue Ruling 2000-35 describes certain criteria that must be met before an employee's compensation can be reduced and contributed to an employer's section 403(b) plan in the absence of an affirmative election by the employee.

Respondents: State, Local, and Tribal Governments.

Estimated total burden hours: 175 hours.

OMB Number: 1545-2026.

Type of Review: Extension of a currently approved collection.

Title: Tribal Evaluation of Filing and Accuracy Compliance (TEFAC)—Compliance Check Report.

Form: 13797.

Description: This form will be provided to tribes who elect to perform a self compliance check on any or all of their entities. This is a voluntary program and the entry is not penalized for non- completion of forms and withdrawal from the program. Upon completion, the information will be used by the Tribe and ITG to develop training needs, compliance strategies, and corrective actions.

Respondents: State, Local, and Tribal Governments.

Estimated total burden hours: 447 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Celina Elphage,
Treasury PRA Clearance Officer.

[FR Doc. 2010-3431 Filed 2-22-10; 8:45 am]

BILLING CODE 4830-01-P